ENVIRONMENTAL PROTECTION AGENCY

[FRL OP-OFA-091]

Environmental Impact Statements; Notice of Availability

Responsible Agency: Office of Federal Activities, General Information 202-564-5632 or https://www.epa.gov/nepa.

Weekly receipt of Environmental Impact Statements (EIS)

Filed October 6, 2023 10 a.m. EST Through October 16, 2023 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20230138, Final, USACE, CO, Halligan Water Supply Project, Review Period Ends: 11/22/2023, Contact: Cody S. Wheeler 720-922-3846.

EIS No. 20230139, Draft, BLM, OR, Hult Reservoir and Dam Safety, Comment Period Ends: 12/7/2023, Contact: Dianne Olson 971-213-4970.

EIS No. 20230140, Final, USACE, MS, Memphis Metropolitan Stormwater North DeSoto County Feasibility Study, DeSoto County, Mississippi, Review Period Ends: 11/22/2023, Contact: Joshua Koontz 901-544-3975.

EIS No. 20230141, Draft, USACE, FL, North of Lake Okeechobee Storage Reservoir Section 203 Study, Comment Period Ends: 12/7/2023, Contact: Dr. Gretchen Ehlinger 904-232-1665.

EIS No. 20230142, Draft Supplement, BLM, AK, Ambler Road Draft Supplemental Environmental Impact Statement, Comment Period Ends: 12/22/2023, Contact: Stacie McIntosh 907-378-3815.

Dated: October 16, 2023.
Cindy S. Barger,
Director, NEPA Compliance Division, Office of Federal Activities.

[FR Doc. 2023-23385 Filed 10-19-23; 11:15 am]

BILLING CODE 6560-50-P